DEPARTMENT OF ENERGY

Federal Energy Regulatory Commission

[Docket No. ER99-1936-001, et al.]

WPS New England Generation, Inc., et al.; Electric Rate and Corporate Filings

March 10, 2003.

The following filings have been made with the Commission. The filings are listed in ascending order within each docket classification.

1. WPS New England Generation, Inc.

[Docket No. ER99-1936-001]

Take notice that on March 5, 2003, WPS New England Generation, Inc., (WPS New England), submitted a notice of change in status under its market-based rate authority to reflect its future long-term lease agreement for 5.5 MW of generation from the Loring Diesel Station in Northern Maine. In addition, WPS New England submitted a three-year update of the justification for their authorization to sell power at market-based rates.

Comment Date: March 26, 2003.

2. Green Mountain Energy Company

[Docket No. ER02-1600-001]

Take notice that on July 1, 2002, Green Mountain Energy Company tendered for filing revised tariff sheets in accordance with the Commission Order dated May 9, 2002.

Comment Date: March 20, 2003.

3. Termoelectrica U.S., LLC

[Docket No. ER03-175-004]

Take notice that on March 5, 2003, Termoelectrica U.S., LLC (Termoelectrica US) tendered for filing a Substitute First Revised Rate Schedule FERC No. 1 to clarify language prohibiting sales between Termoelectrica U.S. and its affiliate, San Diego Gas & Electric Company and requesting a shortened notice period for such filing.

Comment Date: March 20, 2003.

4. Detroit Edison Company

[Docket No. ER03-576-001]

Take notice that on March 4, 2003, the Detroit Edison Company (Detroit Edison) tendered for filing with the Federal Energy Regulatory Commission (Commission), a compliance filing pursuant to the Commission's order issued on February 20, 2003, in Docket Nos. EC03-40-000 and ER03-343-000, ITC Holding Corp., et al., 102 FERC 61,182 (2003). The compliance filing is Detroit Edison's First Revised FERC Electric Rate Schedules 40 and 41, and consists of certain revised and executed service level agreements between Detroit Edison and International Transmission Company. The filing revises and supplements the filing made by Detroit Edison in the above-referenced docket on February 28, 2003.

Comment Date: March 25, 2003.

5. Duke Energy Trenton, LLC

[Docket No. ER03-591-000]

Take notice that, on March 5, 2003, Duke Energy Trenton, LLC tendered for filing a Notice of Cancellation pursuant to 18 CFR 35.15, in order to reflect the cancellation of its market-based rate tariff, designated as FERC Electric Tariff, Original Volume No. 1, originally accepted for filing in Docket Nos. ER00-1782-000 and ER00-1782-001.

Comment Date: March 26, 2003.

6. Florida Power Corporation

[Docket No. ER03-592-000]

Take notice that on March 5, 2003, Florida Power Corporation, doing business as Progress Energy Florida, Inc. (Progress Energy Florida or the Company), tendered for filing a modification to its Agreement for Partial Requirements Resale Service, Transmission/Distribution Service and Demand and Energy Loss Service with Florida Municipal Power Agency, FERC Rate Schedule 107, to add an additional delivery point and delete a delivery point.

Progress Energy Florida states that copies of the filing were served upon the public utility's jurisdictional customers, and the Florida Public Service Commission.

Comment Date: March 26, 2003.

7. Aquila, Inc.

[Docket No. ER03-593-000]

Take notice that on March 5, 2003, Aquila, Inc. (Aquila), filed with the Commission, pursuant to Section 205 of the Federal Power Act, 16 U.S.C. 824d, and part 35 of the Commission regulations, 18 CFR part 35, an Interconnection Agreement between Aquila, Inc. d/b/a WestPlains Energy-Kansas and the Glen Elder City Government dated as of February 7, 2003. The Interconnection Agreement is filed as Service Agreement No. 105 to Aquila's FERC Electric Tariff, Third Revised Volume No. 26.

Comment Date: March 26, 2003.

8. CinCap VII, LLC

[Docket No. ER03-594-000]

Take notice that on March 5, 2003, CinCap VII, LLC tendered for filing a Notice of Cancellation, pursuant to 18 CFR 35.15, giving notice of cancellation of its market-based electric tariff filed with the Federal Energy Regulatory Commission.

Comment Date: March 26, 2003.

9. CinCap Madison, LLC

[Docket No. ER03-595-000]

Take notice that on March 5, 2003, CinCap Madison, LLC tendered for filing a Notice of Cancellation, pursuant to 18 CFR 35.15, giving notice of cancellation of its market-based electric tariff filed with the Federal Energy Regulatory Commission.

Comment Date: March 26, 2003.

Standard Paragraph

Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6014 Filed 3-14-03; 8:45 am]

BILLING CODE 6717-01-P